DEPARTMENT OF COMMERCE

International Trade Administration

Initiation of Antidumping and Countervailing Duty Administrative Reviews and Request for Revocation in Part

Correction

In notice document 14-07270 beginning on page 18262 in the issue of Tuesday, April 1, make the following correction:

On page 18264, in the table, in the Antidumping Duty Proceedings column, under the heading for France, the first entry should read AREVA, NC

[FR Doc. C1-2014-07270 Filed 5-1-14; 8:45 am]

BILLING CODE 1505-01-D